DEPARTMENT OF TRANSPORTATION

Federal Aviation Administration

14 CFR Part 39

[Docket No. FAA-2021-1184; Project Identifier MCAI-2021-00573-R; Amendment 39-21905; AD 2022-02-08]

RIN 2120-AA64

Airworthiness Directives; Leonardo S.p.a. Helicopters

AGENCY: Federal Aviation Administration (FAA), DOT.

ACTION: Final rule; request for comments.

SUMMARY: The FAA is adopting a new airworthiness directive (AD) for all Leonardo S.p.a. Model AB412 and AB412 EP helicopters. This AD was prompted by a report that certain oil and fuel check valves are susceptible to cracking. This AD requires determining whether the affected oil and fuel check valves are installed, visually inspecting the oil and fuel check valves for any crack, and depending on the inspection results, removing certain parts from service. This AD also requires removing affected parts from service and installing serviceable parts, and prohibits the installation of affected parts as specified in a European Union Aviation Safety Agency (EASA) AD, which is incorporated by reference. The FAA is issuing this AD to address the unsafe condition on these products.

DATES: This AD becomes effective February 25, 2022.

The Director of the Federal Register approved the incorporation by reference of a certain publication listed in this AD as of February 25, 2022.

The FAA must receive comments on this AD by March 28, 2022.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For EASA material incorporated by reference (IBR) in this AD, contact EASA, Konrad-Adenauer-Ufer 3, 50668 Cologne, Germany; telephone +49 221 8999 000; email ADs@easa.europa.eu; internet www.easa.europa.eu. You may find this IBR material on the EASA website at https://ad.easa.europa.eu. You may view this material at the FAA, Office of the Regional Counsel, Southwest Region, 10101 Hillwood Pkwy., Room 6N-321, Fort Worth, TX 76177. For information on the availability of this material at the FAA, call (817) 222-5110. This material is also available at https://www.regulations.gov by searching for and locating Docket FAA-2021-1184.

Examining the AD Docket

You may examine the AD docket at https://www.regulations.gov by searching for and locating Docket No. FAA-2021-1184; or in person at Docket Operations between 9 a.m. and 5 p.m., Monday through Friday, except Federal holidays. The AD docket contains this AD, the EASA AD, any comments received, and other information. The street address for Docket Operations is listed above.

FOR FURTHER INFORMATION CONTACT: Hal Jensen, Aerospace Engineer, Operational Safety Branch, Compliance & Airworthiness Division, FAA, 950 L'Enfant Plaza N SW, Washington, DC 20024; telephone (202) 267-9167; email hal.jensen@faa.gov.

SUPPLEMENTARY INFORMATION:

Background

EASA, which is the Technical Agent for the Member States of the European Union, has issued EASA AD 2021-0126, dated May 10, 2021 (EASA AD 2021-0126) to correct an unsafe condition for all serial-numbered Leonardo S.p.a. (AgustaWestland S.p.A., formerly Agusta S.p.A., Agusta un'azienda di Finmeccanica S.p.A., Costruzioni Aeronautiche Giovanni Agusta) Model AB212, AB412, and AB412EP helicopters.

EASA AD 2021-0126 was prompted by a report that due to the application of an incorrect torque level during the assembly process, certain oil and fuel check valves are susceptible to cracking, which may lead to fuel or oil leakage. The FAA is issuing this AD to detect cracks and prevent a lack of engine lubrication, fuel or oil leakage, and loss of fuel supply to the engine, possibly resulting in an engine in-flight shut-down or fire and subsequent loss of control of the helicopter. See EASA AD 2021-0126 for additional background information.

Related Service Information Under 1 CFR Part 51

EASA AD 2021-0126 specifies procedures for identification and inspection of the oil check valve part number (P/N) 209-062-520-1 and fuel check valve P/N 209-062-607-1, manufactured by Circor Aerospace which exceed certain dimensions, except those which have had the correct torque level applied. For certain helicopters, EASA AD 2021-0126 specifies procedures for visually inspecting the oil and fuel check valves for fuel leaks and cracks at intervals not to exceed 25 flight hours or 3 months, whichever occurs first, and depending on the inspection results, replacing the affected parts with serviceable parts. For certain helicopters EASA AD 2021-0126 also requires replacing each affected part with a serviceable part, which is considered a terminating action for the recurring inspections. The “Reason” section of EASA AD 2021-0126 requires removing certain parts from service. Although the “Required Action(s) and Compliance Time(s)” section of EASA AD 2021-0126 does not specifically state that affected parts should be removed from service, for clarification, EASA AD 2021-0126 requires the removal from service of the affected parts as defined in EASA AD 2021-0126. EASA AD 2021-0126 also prohibits installing an affected part on any helicopter.

This material is reasonably available because the interested parties have access to it through their normal course of business or by the means identified in the ADDRESSES section.

Other Related Service Information

The FAA reviewed Leonardo Helicopters Alert Service Bulletin No. 412-166, dated March 30, 2021, which specifies procedures to identify and inspect the fuel check valve P/N 209-062-607-1. The FAA also reviewed Leonardo Helicopters Alert Service Bulletin No. 412-167, dated March 30, 2021, which specifies procedures to identify and inspect the oil check valve P/N 209-062-520-1.

FAA's Determination

These products have been approved by the aviation authority of another country, and are approved for operation in the United States. Pursuant to the FAA's bilateral agreement with the State of Design Authority, the FAA has been notified of the unsafe condition described in EASA AD 2021-0126 referenced above. The FAA is issuing this AD after evaluating all pertinent information and determining that the unsafe condition exists and is likely to exist or develop on other products of these same type designs.

Requirements of This AD

This AD requires accomplishing the actions specified in EASA AD 2021-0126, described previously, as incorporated by reference, except for any differences identified as exceptions in the regulatory text of this AD and except as discussed under “Differences Between this AD and EASA AD 2021-0126.”

Explanation of Required Compliance Information

In the FAA's ongoing efforts to improve the efficiency of the AD process, the FAA initially worked with Airbus and EASA to develop a process to use certain EASA ADs as the primary source of information for compliance with requirements for corresponding FAA ADs. The FAA has since coordinated with other manufacturers and civil aviation authorities to use this process. As a result, EASA AD 2021-0126 is incorporated by reference in this AD. This AD, therefore, requires compliance with EASA AD 2021-0126 in its entirety, through that incorporation, except for any differences identified as exceptions in the regulatory text of this AD. Using common terms that are the same as the heading of a particular section in the EASA AD does not mean that operators need comply only with that section. For example, where the AD requirement refers to “all required actions and compliance times,” compliance with this AD requirement is not limited to the section titled “Required Action(s) and Compliance Time(s)” in the EASA AD. Service information specified in EASA AD 2021-0126 that is required for compliance with EASA AD 2021-0126 is available on the internet at https://www.regulations.gov by searching for and locating Docket No. FAA-2021-1184.

Differences Between This AD and EASA AD 2021-0126

EASA AD 2021-0126 applies to all serial-numbered Model AB212, AB412 and AB412EP helicopters, whereas this AD only applies to Model AB412 and AB412 EP helicopters. This AD does not apply to Model AB212 helicopters because that model is not FAA type-certificated. Service information referenced in EASA AD 2021-0126 specifies sending compliance forms to the manufacturer; this AD does not.

Justification for Immediate Adoption and Determination of the Effective Date

Section 553(b)(3)(B) of the Administrative Procedure Act (APA) (5 U.S.C. 551 et seq.) authorizes agencies to dispense with notice and comment procedures for rules when the agency, for “good cause” finds that those procedures are “impracticable, unnecessary, or contrary to the public interest.” Under this section, an agency, upon finding good cause, may issue a final rule without providing notice and seeking comment prior to issuance. Further, section 553(d) of the APA authorizes agencies to make rules effective in less than thirty days, upon a finding of good cause.

There are currently no domestic operators of these products. Accordingly, notice and opportunity for prior public comment are unnecessary, pursuant to 5 U.S.C. 553(b)(3)(B). In addition, for the foregoing reasons, the FAA finds that good cause exists pursuant to 5 U.S.C. 553(d) for making this amendment effective in less than 30 days.

Comments Invited

The FAA invites you to send any written relevant data, views, or arguments about this AD. Send your comments to an address listed under ADDRESSES. Include “Docket No. FAA-2021-1184; Project Identifier MCAI-2021-00573-R” at the beginning of your comments. The most helpful comments reference a specific portion of the AD, explain the reason for any recommended change, and include supporting data. The FAA will consider all comments received by the closing date and may amend this AD because of those comments.

Except for Confidential Business Information (CBI) as described in the following paragraph, and other information as described in 14 CFR 11.35, the FAA will post all comments received, without change, to https://www.regulations.gov, including any personal information you provide. The agency will also post a report summarizing each substantive verbal contact received about this AD.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Hal Jensen, Aerospace Engineer, Operational Safety Branch, Compliance & Airworthiness Division, FAA, 950 L'Enfant Plaza N SW, Washington, DC 20024; telephone (202) 267-9167; email hal.jensen@faa.gov. Any commentary that the FAA receives that is not specifically designated as CBI will be placed in the public docket for this rulemaking.

Regulatory Flexibility Act (RFA)

The requirements of the RFA do not apply when an agency finds good cause pursuant to 5 U.S.C. 553 to adopt a rule without prior notice and comment. Because the FAA has determined that it has good cause to adopt this rule without prior notice and comment, RFA analysis is not required.

Costs of Compliance

There are no costs of compliance with this AD because there are no helicopters with these type certificates on the U.S. Registry.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this AD will not have federalism implications under Executive Order 13132. This AD will not have a substantial direct effect on the States, on the relationship between the national Government and the States, or on the distribution of power and responsibilities among the various levels of government.

For the reasons discussed above, I certify this regulation:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-02-08 Leonardo S.p.a.: Amendment 39-21905; Docket No. FAA-2021-1184; Project Identifier MCAI-2021-00573-R.

(a) Effective Date

This airworthiness directive (AD) becomes effective February 25, 2022.

(b) Affected ADs

None.

(c) Applicability

This AD applies to Leonardo S.p.a. Model AB412 and AB412 EP helicopters, certificated in any category.

(d) Subject

Joint Aircraft System Component (JASC) Code: 7320, Fuel Controlling system.

(e) Unsafe Condition

This AD was prompted by a report that certain oil and fuel check valves are susceptible to cracking. The FAA is issuing this AD to detect cracks and prevent a lack of engine lubrication, fuel or oil leakage, and loss of fuel supply to the engine, possibly resulting in an engine in-flight shut-down or fire and subsequent loss of control of the helicopter.

(f) Compliance

Comply with this AD within the compliance times specified, unless already done.

(g) Requirements

Except as specified in paragraph (h) of this AD: Comply with all required actions and compliance times specified in, and in accordance with, European Union Aviation Safety Agency (EASA) AD 2021-0126, dated May 10, 2021 (EASA AD 2021-0126).

(h) Exceptions to EASA AD 2021-0126

(1) Where EASA AD 2021-0126 refers to its effective date, this AD requires using the effective date of this AD.

(2) The “Remarks” section of EASA AD 2021-0126 does not apply to this AD.

(3) Where EASA AD 2021-0126 refers to flight hours (FH), this AD requires using hours time-in-service (TIS).

(4) Where paragraph (1) of EASA AD 2021-0126 specifies “inspect the helicopter in accordance with the instructions of Part I of the applicable ASB to determine if the helicopter is Group 1 or Group 2,” for this AD replace “in accordance with the instructions of Part I of the applicable ASB” with “in accordance with the Accomplishment Instructions, Part I, paragraphs 2. through 3.2 of the of the applicable ASB.”

(5) Where paragraph (2) of EASA AD 2021-0126 specifies “inspect each affected part in accordance with the instructions of Part II of the applicable ASB,” for this AD replace “in accordance with the instructions of Part II of the applicable ASB” with “in accordance with the Accomplishment Instructions, Part II, paragraphs 3. and 3.1 of the applicable ASB.”

(i) No Reporting Requirement

Although the service information referenced in EASA AD 2021-0078 specifies to submit certain information to the manufacturer, this AD does not include that requirement.

(j) Special Flight Permit

Special flight permits may be issued in accordance with 14 CFR 21.197 and 21.199 to operate the helicopter to a location where the helicopter can be modified (if the operator elects to do so), provided no passengers are onboard.

(k) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (l) of this AD. Information may be emailed to: 9-AVS-AIR-730-AMOC@faa.gov.

(2) Before using any approved AMOC, notify your appropriate principal inspector, or lacking a principal inspector, the manager of the local flight standards district office/certificate holding district office.

(l) Related Information

For more information about this AD, contact Hal Jensen, Aerospace Engineer, Operational Safety Branch, Compliance & Airworthiness Division, FAA, 950 L'Enfant Plaza N SW, Washington, DC 20024; telephone (202) 267-9167; email hal.jensen@faa.gov.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2021-0126, dated May 10, 2021.

(ii) [Reserved]

(3) For EASA AD 2021-0126, contact the EASA, Konrad-Adenauer-Ufer 3, 50668 Cologne, Germany; telephone +49 221 8999 000; email ADs@easa.europa.eu; internet www.easa.europa.eu. You may find this EASA AD on the EASA website at https://ad.easa.europa.eu.

(4) You may view this service information at the FAA, Office of the Regional Counsel, Southwest Region, 10101 Hillwood Pkwy., Room 6N-321, Fort Worth, TX 76177. For information on the availability of this material at the FAA, call 817-222-5110. This material may be found in the AD docket on the internet at https://www.regulations.gov by searching for and locating Docket No. FAA-2021-1184.

(5) You may view this material that is incorporated by reference at the National Archives and Records Administration (NARA). For information on the availability of this material at NARA, email fr.inspection@nara.gov, or go to https://www.archives.gov/federal-register/cfr/ibr-locations.html.

Issued on January 7, 2022.
Lance T. Gant,
Director, Compliance & Airworthiness Division, Aircraft Certification Service.

[FR Doc. 2022-02760 Filed 2-9-22; 8:45 am]

BILLING CODE 4910-13-P